DEPARTMENT OF ENERGY

Federal Energy Regulatory Commission

Combined Notice of Filings #1

January 18, 2011.

Take notice that the Commission received the following exempt wholesale generator filings:

Docket Numbers: EG11-46-000.

Applicants: Grande Prairie Generation, Inc.

Description: Self-Certification of EWG Status of Grande Prairie Generation, Inc.

Filed Date: 01/13/2011.

Accession Number: 20110113-5102.

Comment Date: 5 p.m. Eastern Time on Thursday, February 03, 2011.

Take notice that the Commission received the following electric rate filings:

Docket Numbers: ER98-411-018.

Applicants: Wolverine Power Supply Cooperative, Inc.

Description: Notification of Change in Status of Wolverine Power Supply Cooperative, Inc.

Filed Date: 01/13/2011.

Accession Number: 20110113-5142.

Comment Date: 5 p.m. Eastern Time on Thursday, February 03, 2011.

Docket Numbers: ER03-534-012.

Applicants: Ingenco Wholesale Power, L.L.C.

Description: Notice of Change in Status of Ingenco Wholesale Power, L.L.C.

Filed Date: 01/14/2011.

Accession Number: 20110114-5236.

Comment Date: 5 p.m. Eastern Time on Friday, February 04, 2011.

Docket Numbers: ER06-1399-010.

Applicants: Sunbury Generation LP.

Description: Notice of Non-Material Change in Status of Sunbury Generation LP.

Filed Date: 01/14/2011.

Accession Number: 20110114-5113.

Comment Date: 5 p.m. Eastern Time on Friday, February 04, 2011.

Docket Numbers: ER10-2068-005.

Applicants: Delaware City Refining Company LLC.

Description: Supplemental Information/Change-in-Status Notification of Delaware City Refining Company LLC.

Filed Date: 01/13/2011.

Accession Number: 20110113-5161.

Comment Date: 5 p.m. Eastern Time on Thursday, February 03, 2011.

Docket Numbers: ER10-2077-004.

Applicants: PBF Power Marketing LLC.

Description: Supplemental Information/Request Change-in-Status Notification of PBF Power Marketing LLC.

Filed Date: 01/13/2011.

Accession Number: 20110113-5162.

Comment Date: 5 p.m. Eastern Time on Thursday, February 03, 2011.

Docket Numbers: ER11-2010-003.

Applicants: Exelon Wind 4, LLC.

Description: Exelon Wind 4, LLC submits tariff filing per 35: ReFile to be effective 12/17/2010.

Filed Date: 01/13/2011.

Accession Number: 20110113-5000.

Comment Date: 5 p.m. Eastern Time on Thursday, February 03, 2011.

Docket Numbers: ER11-2679-000.

Applicants: Florida Power Corporation.

Description: Florida Power Corporation submits tariff filing per 35.13(a)(2)(iii: Revised Rate Schedule No. 80 of Florida Power Corporation to be effective 1/1/2011.

Filed Date: 01/13/2011.

Accession Number: 20110113-5094.

Comment Date: 5 p.m. Eastern Time on Thursday, February 03, 2011.

Docket Numbers: ER11-2680-000.

Applicants: Liberty Electric Power, LLC.

Description: Liberty Electric Power, LLC submits tariff filing per 35.15: Cancellation to be effective 1/13/2011.

Filed Date: 01/13/2011.

Accession Number: 20110113-5101.

Comment Date: 5 p.m. Eastern Time on Thursday, February 03, 2011.

Docket Numbers: ER11-2681-000.

Applicants: ISO New England Inc., New England Power Pool Participants Committee.

Description: ISO New England Inc. submits tariff filing per 35.13(a)(2)(iii: Removal of Sunsetted Provisions in App. A to Market Rule 1 and Conf. Chges. to be effective 3/16/2011.

Filed Date: 01/14/2011.

Accession Number: 20110114-5041.

Comment Date: 5 p.m. Eastern Time on Friday, February 04, 2011.

Docket Numbers: ER11-2682-000.

Applicants: Delmarva Power & Light Company.

Description: Notice of Cancellation of Mutual Operating Agreement of Delmarva Power & Light Company.

Filed Date: 01/14/2011.

Accession Number: 20110114-5053.

Comment Date: 5 p.m. Eastern Time on Friday, February 04, 2011.

Docket Numbers: ER11-2683-000.

Applicants: Alabama Power Company.

Description: Alabama Power Company submits tariff filing per 35.13(a)(2)(iii: PowerSouth NITSA Amendment Filing to be effective 11/1/2011.

Filed Date: 01/14/2011.

Accession Number: 20110114-5069.

Comment Date: 5 p.m. Eastern Time on Friday, February 04, 2011.

Docket Numbers: ER11-2684-000.

Applicants: Palmco Power NY, LLC.

Description: Palmco Power NY, LLC submits tariff filing per 35.12: Palmco Power NY FERC Electric Tariff Original Volume No. 1 to be effective 1/14/2011.

Filed Date: 01/14/2011.

Accession Number: 20110114-5070.

Comment Date: 5 p.m. Eastern Time on Friday, February 04, 2011.

Docket Numbers: ER11-2685-000.

Applicants: New Athens Generating Company, LLC.

Description: New Athens Generating Company, LLC submits tariff filing per 35.15: Cancellation to be effective 1/14/2011.

Filed Date: 01/14/2011.

Accession Number: 20110114-5071.

Comment Date: 5 p.m. Eastern Time on Friday, February 04, 2011.

Docket Numbers: ER11-2686-000.

Applicants: ISO New England Inc., New England Power Pool Participants Comm.

Description: ISO New England Inc. submits tariff filing per 35.13(a)(2)(iii: Amend Participants Agreement among ISO-NE, NEPOOL and Individual Participants to be effective 1/15/2011.

Filed Date: 01/14/2011.

Accession Number: 20110114-5137.

Comment Date: 5 p.m. Eastern Time on Friday, February 04, 2011.

Docket Numbers: ER11-2687-000.

Applicants: PJM Interconnection, L.L.C., Delmarva Power & Light Company.

Description: PJM Interconnection, L.L.C. submits tariff filing per 35.13(a)(2)(iii: IMOA between Delmarva and Town of Middletown, Delaware, Service Agmt No. 2718 to be effective 3/15/2011.

Filed Date: 01/14/2011.

Accession Number: 20110114-5138.

Comment Date: 5 p.m. Eastern Time on Friday, February 04, 2011.

Docket Numbers: ER11-2688-000.

Applicants: PSEG Energy Resources & Trade LLC.

Description: PSEG Energy Resources & Trade LLC submits tariff filing per 35.13(a)(2)(iii: Proposed Revision to Section III to Extend Term to be effective 3/11/2011.

Filed Date: 01/14/2011.

Accession Number: 20110114-5144.

Comment Date: 5 p.m. Eastern Time on Friday, February 04, 2011.

Docket Numbers: ER11-2689-000.

Applicants: PacifiCorp.

Description: PacifiCorp submits tariff filing per 35.13(a)(2)(iii: PAC Energy NITSA Rev 7 to be effective 12/30/2010.

Filed Date: 01/14/2011.

Accession Number: 20110114-5145.

Comment Date: 5 p.m. Eastern Time on Friday, February 04, 2011.

Docket Numbers: ER11-2690-000.

Applicants: Tampa Electric Company.

Description: Tampa Electric Company submits tariff filing per 35.13(a)(2)(iii: Rate Schedule No. 6 With Florida Power Corporation to be effective 1/1/2011.

Filed Date: 01/14/2011.

Accession Number: 20110114-5168.

Comment Date: 5 p.m. Eastern Time on Friday, February 04, 2011.

Docket Numbers: ER11-2694-000.

Applicants: Southern California Edison Company.

Description: Request for Waiver of Southern California Edison Company under ER11-2694.

Filed Date: 01/14/2011.

Accession Number: 20110114-5252.

Comment Date: 5 p.m. Eastern Time on Friday, February 04, 2011.

Take notice that the Commission received the following electric securities filings:

Docket Numbers: ES09-28-002.

Applicants: Entergy Mississippi, Inc.

Description: Application of Entergy Mississippi, Inc., to Amend Existing FPA ? 204 Authorization.

Filed Date: 01/14/2011.

Accession Number: 20110114-5253.

Comment Date: 5 p.m. Eastern Time on Friday, February 04, 2011.

Take notice that the Commission received the following foreign utility company status filings:

Docket Numbers: FC11-4-000.

Applicants: Grande Prairie Generation, Inc.

Description: Self-Certification of FUCO Status of Grande Prairie Generation, Inc.

Filed Date: 01/13/2011.

Accession Number: 20110113-5103.

Comment Date: 5 p.m. Eastern Time on Thursday, February 03, 2011.

Take notice that the Commission received the following PURPA 210(m)(3) filings:

Docket Numbers: QM10-6-000.

Applicants: Commonwealth Edison Company.

Description: Commonwealth Edison Compliance Filing—Revised Appendix 1 under QM10-6.

Filed Date: 01/13/2011.

Accession Number: 20110113-5140.

Comment Date: 5 p.m. Eastern Time on Thursday, February 10, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-1492 Filed 1-24-11; 8:45 am]

BILLING CODE 6717-01-P